DEPARTMENT OF LABOR

Occupational Safety and Health Administration

[Docket No OSHA-2013-0007]

Maritime Advisory Committee for Occupational Safety and Health (MACOSH)

AGENCY: Occupational Safety and Health Administration (OSHA), Labor.

ACTION: Notice of MACOSH Membership.

SUMMARY: On April 12, 2013, the Acting Secretary of Labor announced, the reestablishment of the Maritime Advisory Committee for Occupational Safety and Health (MACOSH). On January 16, 2014, he selected 15 members and a Special Agency Liaison to serve on the Committee. The Committee is diverse and balanced, both in terms of segments of the maritime industry represented (e.g., shipyard employment, longshoring, and marine terminal industries), and in the views and interests represented by the members. The MACOSH charter was signed on May 6, 2013, and will expire after two years on May 6, 2015.

FOR FURTHER INFORMATION CONTACT: For press inquiries: Frank Meilinger, OSHA's Office of Communications, U.S. Department of Labor, Room N-3647, 200 Constitution Avenue NW., Washington, DC 20210; telephone: (202) 693-1725; email Meilinger.Francis2@dol.gov.

For general information about MACOSH: Ms. Amy Wangdahl, Director, Office of Maritime and Agriculture, OSHA, U.S. Department of Labor, Room N-3609, 200 Constitution Avenue NW., Washington, DC 20210; telephone: (202) 693-2066; email Wangdahl.amy@dol.gov.

SUPPLEMENTARY INFORMATION: MACOSH will contribute to OSHA's performance of its duties under the Occupational Safety and Health Act of 1970 (29 U.S.C. 651 et seq.). Authority to establish this Committee is at Sections 6(b)(1) and 7(b) of the OSH Act, Section 41 of the Longshore and Harbor Workers' Compensation Act (33 U.S.C. 941), Secretary of Labor's Order 1-2012 (77 FR 3912, Jan. 25, 2012), and 29 CFR Part 1912. The Committee will advise OSHA on matters relevant to the safety and health of employees in the maritime industry. This includes advice on maritime issues that will result in more effective enforcement, training, and outreach programs, and streamlined regulatory efforts. The maritime industry includes shipyard employment, longshoring, and marine terminal industries. The Committee will function solely as an advisory body in compliance with the provisions of the FACA and OSHA's regulations covering advisory committees (29 CFR Part 1912).

Background

The maritime industry has historically experienced a high incidence of work-related fatalities, injuries, and illnesses. OSHA targeted this industry for special attention due to that experience. This targeting included development of guidance or outreach materials specific to the industry, rulemakings to update requirements, and other activities. MACOSH will advise the Secretary through the Assistant Secretary of Labor for Occupational Safety and Health on matters relevant to the safety and health of employees in the maritime industry. The Committee's advice will result in more effective enforcement, training and outreach programs, and streamlined regulatory efforts.

Appointment of Committee Members

OSHA received nominations of highly qualified individuals in response to the Agency's request for nominations (77 FR 46156, August 2, 2012). The Secretary selected to serve on the Committee individuals who have broad experience relevant to the issues to be examined by the Committee. The MACOSH members are:

Karen I. Conrad, North Pacific Fishing Vessel Owners' Association;

Kelly J. Garber, APL Ltd.;

Robert Godinez, International Brotherhood of Boilermakers—Iron Ship Builders;

LCDR John F. Halpin, MD, MPH, U.S. Department of Health and Human Services; National Institute of Occupational Safety and Health;

Daniel R. Harrison, American Society of Safety Engineers;

Lesley E. Johnson, International Brotherhood of Electrical Workers;

George S. Lynch, Jr., International Longshoremen's Association;

Christopher John McMahon, U.S. Department of Transportation, Maritime Administration;

Timothy J. Podue, International Longshore and Warehouse Union;

Donald V. Raffo, General Dynamics Corp.;

James A. Rone, Washington State Department of Labor and Industries;

Arthur T. Ross, Texas Terminals, L.P.;

Amy Sly, Marine Chemist Association;

Kenneth A. Smith, U.S. Coast Guard; and

James R. Thornton, American Industrial Hygiene Association.

Authority and Signature

David Michaels, Ph.D., MPH, Assistant Secretary of Labor for Occupational Safety and Health, authorized the preparation of this notice under the authority granted by 29 U.S.C. 655 and 656, 5 U.S.C. App. 2, Secretary of Labor's Order 1-2012 (77 FR 3912; Jan. 25, 2012), and 29 CFR Part 1912.

Signed at Washington, DC, on January 29, 2014.
David Michaels,
Assistant Secretary of Labor for Occupational Safety and Health.

[FR Doc. 2014-02262 Filed 2-3-14; 8:45 am]

BILLING CODE 4510-26-P